DEPARTMENT OF THE INTERIOR

Bureau of Indian Affairs

Tribal Court Budget Data Collection Instrument

AGENCY: Bureau of Indian Affairs, Interior.

ACTION: Notice of Proposed Information Collection.

SUMMARY: The Bureau of Indian Affairs is seeking comments on a collection of information about tribal courts and Courts of Indian Offenses, the caseloads and kinds of cases, the number of personnel necessary to meet legal requirements, and the costs of operating tribal courts for budget and other purposes. Data of this nature was collected under the auspices of tribal representatives of the Judicial Subgroup—BIA/Tribal Budget Advisory Council. They now desire to associate with the Bureau of Indian Affairs (Bureau) for the collection of this data. Accordingly, OMB approval and a control number are being requested.

DATES: Submit comments on or before December 6, 2004.

ADDRESSES: Send comments to Ralph Gonzales, Office of Tribal Services, Bureau of Indian Affairs, 1951 Constitution Avenue, NW., MS-320-SIB, Washington, DC 20240; Telephone (202) 513-7629; Fax (202) 208-5113.

FOR FURTHER INFORMATION CONTACT: You may request further information or obtain copies of the proposed information collection request from Ralph Gonzales, Office of Tribal Services, Bureau of Indian Affairs, 1951 Constitution Avenue, NW., MS-320-SIB, Washington, DC 20240; Telephone (202) 513-7629; Fax (202) 208-5113.

SUPPLEMENTARY INFORMATION: The data collection instrument will gather information about a tribal court's operation relative to its costs, number of court personnel employed, adequacy of facilities, tribal codes enforced, geographical area of operation, and traditional mediation procedures used. The data is gathered under the authority of the Indian Tribal Justice Act, Public Law 103-176 (25 U.S.C. 3601) (the Act) which provides at Section 101(f):

“INFORMATION CLEARINGHOUSE OF TRIBAL JUSTICE SYSTEMS. The Office shall maintain an information clearinghouse (which shall include an electronic data base) on tribal justice systems and Courts of Indian Offenses, including (but not limited to) information on staffing, funding, model tribal codes, tribal justice activities, and tribal judicial decisions.”

The data gathered will primarily be used for budgetary purposes. The Act further provides at Section 1(2) “the United States has a trust responsibility to each tribal government that includes the protection of the sovereignty of each tribal government.” Section 1(4) provides “Indian tribes possess the inherent authority to establish their own form of government, including tribal justice systems.” The Bureau must perform its fiduciary responsibility and assist tribal governments in supporting tribal judicial systems by bringing tribal courts to par with non-Indian court systems. The data collected under this initiative will be a start toward achieving this objective.

Tribal governments will be given the opportunity to document their tribal court's unmet need. The data will be collected electronically to reduce the burden upon the tribal government in providing tribal court data. Data will be gathered as a part of the Bureau's budget cycle and will be collected only once annually.

The Assistant Secretary—Indian Affairs established a BIA/Tribal Budget Advisory Council to provide advice on the development of a budget for the Bureau. The Council determined that the tribal courts were a priority because of the continued lack of adequate funding. A Judicial Subgroup was formed to determine what information was needed from the courts to meet all their funding needs. This group derives its authority to request the information from Section 101(f) of the Indian Tribal Justice Act, Public Law 103-176 (25 U.S.C. 3601). The lack of adequate funding has created a critical backlog in caseload for tribal courts, causing some cases to be dismissed because the courts cannot hear the cases in a timely manner. The consequences of this backlog is that justice is not provided in a timely manner, many legitimate cases are dismissed, and all sectors of Indian Country, including law abiding citizens as well as the law-breakers, get the impression that crime can be committed on an Indian reservation with impunity.

The Subgroup has identified the need for the following information: Tribe(s) operating a tribal court system; population covered/serviced; geographical area covered by the court; number and kinds of court personnel presently and that which is needed to provide adequate judicial services; facilities available/needed; kinds and number of caseloads; jury and judicial hearings required; evaluation of services provided, including personnel; span of civil and criminal control. The information will be provided annually to allow time for inclusion in the Bureau's budget cycle.

Request for Comments

The Bureau of Indian Affairs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 320, during the hours of 8 a.m. to 5 p.m. (EST), Monday through Friday, except for legal holidays. If you wish to have your name and/or address withheld, you must state this prominently at the beginning of your comments. We will honor your request according to the requirements of the law. All comments from organizations or representatives will be available for review. We may withhold comments from review for other reasons.

Information Collection Abstract

Type of review: New.

Title: Information Clearinghouse on Tribal Justice Systems.

OMB Control Number: 1076-NEW.

Need and use of the information: The information will be gathered using a simple questionnaire requiring single entries or by checking options provided. The responses will be used to support the respondents' request to receive or maintain a benefit, funding for the court systems, and specifically, an increase in funding for tribal courts as a result of this data collection initiative.

Description of respondents: An employee of the tribal court, usually the court clerk or the court administrator, will enter the data required into the form available electronically.

Number of Annual Responses: 180.

Estimated Time per Response: 20 minutes.

Frequency of Response: Annually.

Total Annual Hourly Burden to Respondents: 60 hours.

Dated: September 28, 2004.
David W. Anderson,
Assistant Secretary—Indian Affairs.

[FR Doc. 04-22456 Filed 10-5-04; 8:45 am]

BILLING CODE 4310-4J-P